DEPARTMENT OF TRANSPORTATION

Pipeline and Hazardous Materials Safety Administration

[Docket No. PHMSA-2016-0005]

Pipeline Safety: Public Workshop on Liquefied Natural Gas Regulations

AGENCY: Pipeline and Hazardous Materials Safety Administration (PHMSA), DOT.

ACTION: Notice of public meeting.

SUMMARY: This notice is announcing a public meeting to solicit input and obtain background information for the formulation of a future regulatory change to 49 CFR part 193, Liquefied Natural Gas Facilities: Federal Safety Standards. PHMSA is co-sponsoring a two-day Liquefied Natural Gas (LNG) Workshop with the National Association of Pipeline Safety Representatives. PHMSA will also describe requirements for transporting LNG in commerce by rail, highway, and waterway, as authorized in the Federal Hazardous Materials Regulations in 49 CFR parts 100-185. This workshop will bring federal and state regulators, emergency responders, NFPA 59A technical committee members, industry, and interested members of the public together to participate in shaping a future LNG rule.

DATES: The public workshop will be held on May 18-19, 2016. Name badge pick up and on-site registration will be available starting at 7:00 a.m., with the workshop taking place from 8:30 a.m. until approximately 4:30 p.m. eastern time.

ADDRESSES: The workshop will be held at the U.S. Department of Transportation (DOT), 1200 New Jersey Avenue SE., Washington, DC 20590 in the atrium of the west building (New Jersey Avenue entrance, across the street from the Navy Yard Metro station). Attendees should arrive early to allow for time to go through security. Directions to DOT are located at https://www.transportation.gov/directions.

Online preregistration for the workshop is available until May 11, 2016. Refer to the meeting Web site for the latest information about the meeting including agenda and the webcast at http://primis.phmsa.dot.gov/meetings/MtgHome.mtg?mtg=111 Presentations and a recording of proceedings will be available within 30 days after the event.

Registration: Members of the public may attend this free workshop. To help assure that adequate space is provided, attendees, both in person and by webcast, should register in advance at the PHMSA public meeting Web site at http://primis.phmsa.dot.gov/meetings/MtgHome.mtg?mtg=111 Onsite registration will also be available for those attending in person.

Important: Please be sure all representatives who plan to attend are registered. If you do not register for this meeting in advance, your entrance into the building may be delayed due to security processing. To enter the facility, all U.S. citizen visitors must have a valid U.S. or state government issued photo identification (driver's license, passport, etc.). If you do not have valid photo identification, you will not be permitted to enter the facility.

DOT is a secure U.S. Government building. All visitors and any items brought into the facility will be required to go through security screening each time they enter the building. NOTE: Screening luggage takes additional time at the entry checkpoint. If possible, please avoid bringing luggage.

If you are a non-U.S. citizen/foreign national and will be attending the meeting in person, please contact Janice.Morgan.CTR@dot.gov or 202-366-2392 to provide the following information: full name, official title or position, date of birth, country of citizenship, passport number or diplomatic identification number, and passport expiration date. Guest information is required at least five business days in advance of the meeting.

Comments: Members of the public may submit written comments either before or after the workshop. Comments should reference Docket No. PHMSA-2016-0005. Comments may be submitted in the following ways:

• E-Gov Web site: http://www.regulations.gov. This site allows the public to enter comments on any Federal Register notice issued by any agency. Follow the instructions for submitting comments.

• Fax: 1-202-493-2251.

• Mail: Docket Management System, U.S. Department of Transportation,1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number (PHMSA-2016-0005) at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement below for additional information.

Privacy Act Statement

Anyone may search the electronic form of all comments received for any of our dockets. You may review DOT's complete Privacy Act Statement in the Federal Register published April 11, 2000, (65 FR 19476) or visit http://dms.dot.gov.

Information on Services for Individuals With Disabilities

For information on facilities or services for individuals with disabilities, or to request special assistance at the meeting, please contact Mrs. Julie Halliday, Engineering and Research Division, at 202-366-0287 or Julie.Halliday@dot.gov.

FOR FURTHER INFORMATION CONTACT: Julie Halliday, Engineering and Research Division, at 202-366-0287 or Julie.Halliday@dot.gov about the subject matter in this notice.

SUPPLEMENTARY INFORMATION: The Pipeline Safety Act codified in 49 U.S.C. 60101, et seq., directs DOT to establish and enforce safety standards for LNG facilities. While there are exceptions, generally an onshore LNG plant is regulated in CFR part 193 if the plant either receives from or delivers natural gas to a pipeline regulated in 49 CFR part 192.

The regulations in Part 193 were first promulgated in the 1970's, when the majority of LNG plants were built by natural gas pipeline operators for “peak shaving” or storage for injection back into natural gas pipelines to meet peak winter demand. Since that time, the LNG industry has made technological, fabrication, material, and material testing advancements. The field of process safety has also evolved.

The abundant natural gas supply in the U.S. and national and international demand for LNG is spurring development of new LNG plants. Large marine export plants are being constructed to export LNG due to the abundance of domestic natural gas. These plants store and transfer much greater quantities of LNG and other heavy hydrocarbons. Smaller LNG plants are being constructed to produce LNG as an alternative fuel to gasoline and diesel. Because LNG is a cleaner, efficient, and lightweight fuel compared to other fossil fuels, it can substitute for traditional oil-based fuels for trucking, vessels, rail, drilling equipment, decentralized power generation, and process industry. Some new smaller scale LNG applications, such as marine bunkering, seek to locate at or near sites where diesel or other fueling occurs today. These locations may be in close proximity to other existing infrastructure and to an area that is used for outdoor assembly of groups of 50 or more persons—which is currently not allowed within a thermal exclusion zone.

As a new LNG industry is emerging, the existing LNG infrastructure is aging. Failures at new plants can occur due to unforeseen complications of new technology and design and construction issues, while older systems are vulnerable to risks from obsolescence, and aging, equipment and systems. PHMSA is considering updates to Part 193 to reflect advances in technologies, design, construction, materials, material testing, and to address risks associated with new and aging facilities.

The workshop is an opportunity to review and consider incorporating newer editions of the NFPA 59A and other technical standards that allow or require the use of new technologies, materials, and practices to enhance safety, and also to work with stakeholders to resolve issues that may prevent the incorporation of the latest edition of those standards. Part 193 significantly incorporates by reference the 2001 edition of the National Fire Protection Association (NFPA) 59A technical standard. In 2010, PHMSA incorporated by reference a few sections of the 2006 edition of NFPA 59A.

The LNG market is evolving due to the abundance of natural gas, stricter emissions regulations, new technologies, and new applications for the use of LNG. Also, the majority of LNG plants in service today were constructed in the 1970's and that existing regulations may not adequately incorporate risk-based assessments, process safety practices, and technologies that have developed over this time period. Additionally, newer editions of technical standards incorporated by reference in Part 193 have been issued since the last time the regulation was updated.

This workshop is also a forum for PHMSA to collect input regarding challenges operators face locating, designing, fabricating, constructing, replacing, or upgrading facilities due to regulations that may not address these changes or due to the incorporation of older versions of technical standards in Part 193. PHMSA seeks to gain information on best practices for process safety. PHMSA also seeks input from the public and emergency responders regarding education, awareness, and training about LNG safety. Finally, PHMSA will also describe requirements for transporting LNG in commerce by rail, highway, and waterway, as authorized in Federal Hazardous Materials Regulations Title 49 CFR parts 100-185.

Issued in Washington, DC, on April 20, 2016, under authority delegated in 49 CFR 1.97.
Jeffrey D. Wiese,
Associate Administrator for Pipeline Safety.

[FR Doc. 2016-09653 Filed 4-25-16; 8:45 am]

BILLING CODE 4910-60-P